DEPARTMENT OF HOMELAND SECURITY

Federal Emergency Management Agency

National Advisory Council

AGENCY: Federal Emergency Management Agency, DHS.

ACTION: Committee Management; Request for Applicants for Appointment to the National Advisory Council.

SUMMARY: The Federal Emergency Management Agency (FEMA) is requesting individuals who are interested in serving on the National Advisory Council (NAC) to apply for appointment. As provided for in the Department of Homeland Security Appropriations Act of 2007, the Secretary of Homeland Security established the NAC to ensure effective and ongoing coordination of Federal preparedness, protection, response, recovery, and mitigation for natural disasters, acts of terrorism, and other man-made disasters. The NAC consists of 33 members, all of whom are experts and leaders in their respective fields. One-third of the membership was appointed for a one (1) year term-expiring on June 15, 2008. Accordingly, the following discipline areas for the one (1) year expiring terms will be open for applications and nominations: Emergency management, emergency response, health scientist, standards setting, infrastructure protection, communications, disabilities, local government official (non-elected), and tribal elected official. Qualified individuals interested in serving on the NAC are invited to apply for appointment. All ethnicities and genders are encouraged to apply.

DATES: Applications for membership should reach FEMA at the address below on or before 5 p.m. EST on Friday, March 14, 2008.

ADDRESSES: If you wish to apply for membership, your application should be submitted by:

• E-mail: alyson.price@dhs.gov.

• Fax: (202) 646-3347.

• Mail: Alyson Price, Designated Federal Officer, Federal Emergency Management Agency, National Advisory Council, 500 C Street, SW., Washington, DC 20472.

FOR FURTHER INFORMATION CONTACT: Alyson Price, telephone 202-646-3746; e-mail alyson.price@dhs.gov.

SUPPLEMENTARY INFORMATION: The National Advisory Council (NAC) is an advisory committee established in accordance with the provisions of the Federal Advisory Committee Act (FACA) 5 U.S.C. (Pub. L. 92-463). Section 508 of the Homeland Security Act of 2002 (Pub. L. 107-296), as amended by section 611 of the Post-Katrina Emergency Management Reform Act of 2006, as set forth in the Department of Homeland Security Appropriations Act of 2007 (Pub. L. 109-295), directed the Secretary of Homeland Security to establish the NAC to ensure effective and ongoing coordination of Federal preparedness, protection, response, recovery, and mitigation for natural disasters, acts of terrorism, and other man-made disasters.

The NAC assists FEMA in carrying out its missions by providing advice and recommendations in the development and revision of the national preparedness goal, the national preparedness system, NIMS, the National Response Plan, and other related plans and strategies. The members of the NAC are appointed by the Administrator of FEMA and are composed of Federal, State, local, tribal, and private-sector leaders and subject matter experts in law enforcement, fire, emergency medical services, hospital, public works, emergency management, State and local governments, public health, emergency response, standards-setting and accrediting organizations, representatives of individuals with disabilities and other special needs, infrastructure protection, cyber security, communications, and homeland security communities.

Some members are appointed as Special Government Employees (SGE) as defined in section 202(a) of title 18, United States Code. Specifically, the following four discipline areas will be filled by SGE appointments: Health scientist, infrastructure protection and communications. As a candidate for appointment as a SGE, applicants are required to complete a Confidential Financial Disclosure Report (OGE Form 450). OGE Form 450 or the information contained therein may not be released to the public except under an order issued by a Federal court or as otherwise provided under the Privacy Act (5 U.S.C. 552a). Applicants can obtain this form by going to the website of the Office of Government Ethics (http://www.oge.gov), or by contacting Alyson Price. Ms. Price's contact information is provided in FOR FURTHER INFORMATION CONTACT above.

Qualified individuals interested in serving on the NAC are invited to apply for appointment by submitting a resume or CV along with letters of recommendation to Ms. Price. Current NAC members whose terms are ending should notify the Designated Federal Officer of their interest in reappointment in lieu of submitting a new application, and should provide an updated resume or CV, and letters of recommendation for consideration.

The NAC meets in a plenary session approximately once per quarter. With respect to quarterly meetings, the NAC also holds at least one teleconference meeting with public call-in lines. Members serve without compensation from the Federal Government; however, consistent with the charter, they do receive travel reimbursement and per diem under applicable Federal travel regulations.

In support of the policy of the Department of Homeland Security on gender and ethic diversity, qualified women and minorities are encouraged to apply for membership.

Dated: February 6, 2008.
R. David Paulison,
Administrator, Federal Emergency Management Agency.

[FR Doc. E8-2904 Filed 2-14-08; 8:45 am]

BILLING CODE 9110-21-P